DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground Modified | Communities affected
Sonoma County, California and Incorporated Areas
Docket No.: FEMA-B-7751 and FEMA-D-7644
Mount Hood Creek | Approximately 0.38 mile downstream of Sonoma Highway (State Route 12) | +468 | City of Santa Rosa.
| At Sonoma Highway (State Route 12) | +495
Petaluma River | Approximately 400 feet south of the intersection of South McDowell Boulevard and Cader Lane | +9 | City of Petaluma.
Laguna de Santa Rosa Creek | At downstream side of Redwood Highway South (US Route 101) | +97 | City of Rohnert Park.
| Approximately 0.80 mile upstream of Redwood Highway South | +100
Russian River (Area behind Railroad Avenue/Kelly Road levees) | Approximately 1.5 miles downstream of Crocker Road | +285 | Unincorporated Areas of Sonoma County.
| Approximately 1,550 feet downstream of Crocker Road | +300
# Depth in feet above ground.
+ North American Vertical Datum.
* National Geodetic Vertical Datum.
ADDRESSES
City of Petaluma
Maps are available for inspection at Petaluma City Hall, 11 English Street, Petaluma, California.
City of Rohnert Park
Maps available for inspection at the Rohnert Park City Public Works Department, 6750 Commerce Boulevard, Rohnert Park, California.
City of Santa Rosa
Maps are available for inspection at Santa Rosa City Hall, 100 Santa Rosa Avenue, Santa Rosa, California.
Unincorporated Areas of Sonoma County
Maps are available for inspection at Sonoma County Engineering Division, 2550 Ventura Avenue, Santa Rosa, California.
Avery County, North Carolina and Incorporated Areas
Docket No.: FEMA-D-7676, FEMA-D-7808, FEMA-B-7746, FEMA-B-7763
Anthony Creek | Approximately 140 feet upstream of Anthony Creek Road (SR 1362) | +1,720 | Avery County (Unincorporated Areas).
| Approximately 1,100 feet upstream of Anthony Creek Road (SR 1362) | +1,753
Beech Creek | At the confluence with Watauga River | +2,444 | Unincorporated Areas of Avery County.
| Approximately 1,100 feet upstream of the confluence of Buckeye Creek | +2,776
Bill White Creek | At the confluence with Linville River | +3,274 | Avery County (Unincorporated Areas).
| Approximately 1.2 miles upstream of the confluence with Linville River | +3,331
Brushy Creek | At the confluence with North Toe River | +2,622 | Unincorporated Areas of Avery County.
| Approximately 2.0 miles upstream of the confluence with North Toe River | +2,792
Buckeye Creek | At the confluence with Beech Creek | +2,731 | Unincorporated Areas of Avery County.
| Approximately 950 feet upstream of the confluence of Clingman Mine Branch | +2,940
Cary Flat Branch | At the confluence with Wilson Creek | +2,047 | Avery County (Unincorporated Areas).
| Approximately 720 feet upstream of the confluence with Wilson Creek | +2,057
Clark Branch | At the confluence with Mill Timber Creek | +3,325 | Avery County (Unincorporated Areas).
| Approximately 0.7 mile upstream of East Crossnore Drive | +3,362
Clear Creek | At the confluence with North Toe River | +2,776 | Unincorporated Areas of Avery County.
| Approximately 1,300 feet upstream of the confluence with North Toe River | +2,816
Cranberry Creek | At the confluence with Elk River | +2,898 | Unincorporated Areas of Avery County.
| Approximately 0.5 mile upstream of Substation Road | +3,113
Crossnore Creek | At the confluence with Mill Timber Creek | +3,323 | Avery County (Unincorporated Areas), Town of Crossnore.
| Approximately 60 feet downstream of Henson Street | +3,408
Curtis Creek | At the confluence with Elk River | +3,036 | Unincorporated Areas of Avery County.
| Approximately 170 feet downstream of Alton Palmer Road (State Road 1324) | +3,249
Elk River | At the North Carolina/Tennessee state boundary | +2,693 | Unincorporated Areas of Avery County, Town of Banner Elk.
| Approximately 0.5 mile downstream of Glove Factory Lane | +3,673
Elk River Tributary 1 | At the North Carolina/Tennessee state boundary | +2,772 | Unincorporated Areas of Avery County.
| Approximately 0.7 mile upstream of North Carolina/Tennessee State boundary | +3,198
Fall Creek | At the confluence with Elk River | +2,713 | Unincorporated Areas of Avery County.
| Approximately 0.8 mile upstream of the confluence with Elk River | +3,174
Gragg Prong Creek | At the confluence with Lost Cove Creek | +1,707 | Unincorporated Areas of Avery County.
| Approximately 1,350 feet upstream of the confluence with Webb Creek | +2,199
Hanging Rock Creek | At the confluence with Elk River | +3,658 | Unincorporated Areas of Avery County, Town of Banner Elk.
| Approximately 160 feet downstream of Dobbins Road (State Road 1337) | +3,848
Harper Creek | At the Avery/Caldwell County boundary | +1,800 | Avery County (Unincorporated Areas).
| At the confluence of South Harper and North Harper Creeks | +1,816
Henson Creek | At the confluence with North Toe River | +2,838 | Unincorporated Areas of Avery County.
| Approximately 700 feet upstream of Henson Creek Road (State Road 1126) | +3,351
Horney Creek | At the confluence with Elk River | +3,391 | Unincorporated Areas of Avery County, Town of Banner Elk.
| Approximately 1,620 feet upstream of Banner Elk Highway/US-194 | +3,586
Horse Bottom Creek | At the confluence with Hanging Rock Creek | +3,686 | Unincorporated Areas of Avery County, Town of Banner Elk.
| Approximately 650 feet upstream of Guignard Lane | +3,774
Hull Branch | At the confluence of South Harper Creek | +2,279 | Avery County (Unincorporated Areas).
| Approximately 450 feet upstream of the confluence with South Harper Creek | +2,285
Kentucky Creek | At the confluence with North Toe River | +3,590 | Unincorporated Areas of Avery County, Town of Newland.
| Approximately 0.5 mile upstream of Damon Vance Lane | +3,762
Linville River (downstream) | Approximately 0.3 mile downstream of the Avery/Burke County boundary | +3,206 | Avery County (Unincorporated Areas).
| Approximately 1.1 miles upstream of River Road | +3,573
Linville River (upstream) | Approximately 50 feet downstream of Highland Mist Road | +3,695 | Avery County (Unincorporated Areas), Village of Grandfather Village.
| At the confluence of Big Grassy Creek | +3,834
Little Elk Creek | At the confluence with Elk River | +2,865 | Unincorporated Areas of Avery County, Town of Elk Park.
| Approximately 0.8 mile upstream of Little Elk Road (State Road 1173) | +3,716
Little Elk Creek Tributary 1 | At the confluence with Little Elk Creek | +2,897 | Unincorporated Areas of Avery County, Town of Elk Park.
| Approximately 140 feet upstream of Brooks Shell Road (State Road 1171) | +3,564
Little Elk Creek Tributary 1A | At the confluence with Little Elk Creek Tributary 1 | +3,098 | Unincorporated Areas of Avery County, Town of Elk Park.
| Approximately 1,420 feet upstream of Brooks Shell Road (State Road 1171) | +3,445
Little Elk Creek Tributary 2 | At the confluence with Little Elk Creek | +3,037 | Unincorporated Areas of Avery County, Town of Elk Park.
| Approximately 260 feet upstream of Cliff Taylor Lane | +3,146
Lost Cove Creek | At the Avery/Caldwell County boundary | +1,580 | Avery County (Unincorporated Areas).
| Approximately 2.1 miles upstream of the confluence with Gragg Prong Creek | +1,947
Mill Timber Creek | At the confluence with Linville River | +3,315 | Avery County (Unincorporated Areas).
| Approximately 150 feet downstream of U.S. 221 | +3,362
North Toe River | Approximately 1.3 miles downstream of the confluence of Brushy Creek | +2,604 | Unincorporated Areas of Avery County, Town of Newland.
| At the confluence of Hickorynut Branch | +3,770
Plumtree Creek | At the confluence with North Toe River | +2,865 | Unincorporated Areas of Avery County.
| Approximately 1.0 mile upstream of US-19 | +2,957
Roaring Creek | At the confluence with North Toe River | +2,966 | Unincorporated Areas of Avery County.
| Approximately 2.7 miles upstream of Roaring Creek Road (State Road 1132) | +4,240
Rockhouse Creek | At the confluence with Lost Cove Creek | +1,580 | Avery County (Unincorporated Areas).
| Approximately 0.5 mile upstream of the Avery/Caldwell County boundary | +1,639
Shawneehaw Creek | Approximately 300 feet upstream of the confluence with Elk River | +3,644 | Unincorporated Areas of Avery County, Town of Banner Elk.
| Approximately 270 feet upstream of Gualtney Road (State Road 1335) | +3,962
Shawneehaw Creek Tributary 1 | At the confluence with Shawneehaw Creek | +3,813 | Unincorporated Areas of Avery County, Town of Banner Elk.
| Approximately 880 feet upstream of Balm Highway/US-194 | +3,871
Shoemaker Creek | At the confluence with Shawneehaw Creek | +3,796 | Unincorporated Areas of Avery County, Town of Banner Elk.
| Approximately 400 feet upstream of Shoemaker Road | +3,882
South Harper Creek | At the confluence with Harper Creek | +1,816 | Avery County (Unincorporated Areas).
| Approximately 320 feet upstream of the confluence of Hull Branch | +2,284
Stamey Branch | At the confluence with Linville River | +3,263 | Avery County (Unincorporated Areas).
| Approximately 0.6 mile upstream of the confluence with Linville River | +3,281
Sugar Creek | Approximately 150 feet upstream of the confluence with Elk River | +3,681 | Unincorporated Areas of Avery County, Town of Banner Elk.
| Approximately 1,250 feet upstream of Mac Lane | +3,727
Threemile Creek | At the confluence with North Toe River | +2,756 | Unincorporated Areas of Avery County.
| Approximately 0.8 mile upstream of Greenway Lane | +2,853
Trivett Branch | At the North Carolina/Tennessee state boundary | +2,644 | Unincorporated Areas of Avery County.
| Approximately 700 feet upstream of the confluence with Trivett Branch Tributary 3 | +2,995
Trivett Branch Tributary 1 | At the North Carolina/Tennessee state boundary | +2,633 | Unincorporated Areas of Avery County.
| Approximately 700 feet upstream of the confluence of Trivett Branch Tributary 1A | +2,841
Trivett Branch Tributary 1A | At the confluence with Trivett Branch Tributary 1 | +2,760 | Unincorporated Areas of Avery County.
| Approximately 720 feet upstream of the confluence with Trivett Branch Tributary 1 | +2,890
Trivett Branch Tributary 2 | At the confluence with Trivett Branch | +2,650 | Unincorporated Areas of Avery County.
| Approximately 1,150 feet upstream of the confluence with Trivett Branch | +2,754
Trivett Branch Tributary 3 | At the confluence with Trivett Branch | +2,968 | Unincorporated Areas of Avery County.
| Approximately 370 feet upstream of Dark Ridge Road (State Road 1310) | +2,998
Watauga River | At the North Carolina/Tennessee state boundary | +2,142 | Unincorporated Areas of Avery County.
| At the confluence of Beech Creek | +2,446
Webb Creek | At the confluence with Gragg Prong Creek | +2,172 | Avery County (Unincorporated Areas).
| Approximately 475 feet upstream of Webb Creek Road | +2,396
Whitehead Creek | At the confluence with Elk River | +3,404 | Unincorporated Areas of Avery County, Town of Banner Elk,
| Approximately 100 feet upstream of Tumbling Brook Drive | +3,764
West Fork Linville River | Approximately 670 feet upstream of Joe Hartley Road | +3,684 | Avery County (Unincorporated Areas).
| Approximately 0.4 mile upstream of Joe Hartley Road | +3,712
Wilson Creek | At the Avery/Caldwell County boundary | +1,670 | Avery County (Unincorporated Areas).
| Approximately 500 feet upstream of the confluence with Cary Flat Branch | +2,056
+ North American Vertical Datum.
* National Geodetic Vertical Datum.
# Depth in feet above ground.
ADDRESSES
Avery County (Unincorporated Areas)
Maps are available for inspection at the Avery County Courthouse, 100 Montezuma Street, Newland, North Carolina.
Town of Banner Elk
Maps are available for inspection at the Banner Elk Town Hall, 200 Park Avenue, Banner Elk, North Carolina.
Town of Crossnore
Maps are available for inspection at the Crossnore Town Hall, 1 Circle Drive, Crossnore, North Carolina.
Town of Elk Park
Maps are available for inspection at the Elk Park Town Hall, 169 Winters Street, Elk Park North Carolina.
Town of Newland
Maps are available for inspection at the Newland Town Hall, 301 Cranberry Street, Newland, North Carolina.

(Catalog of Federal Domestic Assistance No. 97.022, “Flood Insurance.”)

Dated: June 17, 2008.
David I. Maurstad,
Federal Insurance Administrator of the National Flood Insurance Program, Department of Homeland Security, Federal Emergency Management Agency.

[FR Doc. E8-14326 Filed 6-24-08; 8:45 am]

BILLING CODE 9110-12-P